DEPARTMENT OF AGRICULTURE

Forest Service

Notice of Agreement Under the Comprehensive Response, Compensation and Liability Act (CERCLA)

AGENCY: Forest Service.

ACTION: Notice of proposed settlement agreement; request for public comment.

SUMMARY: In accordance with Section 122(i) of the Comprehensive Environmental Response, Compensation and Liability Act (“CERCLA”), 42 U.S.C. 9622(i), notice is hereby given of a proposed administrative settlement between the United States, on behalf of the U.S. Department of Agriculture, Forest Service, and Atlantic Richfield Company (ARCO) for the recovery of costs incurred by the United States in responding to the release or threatened release of hazardous substances at and from the Cashman Mill Site (Site), near Skykomish, King County, Washington. The Forest Service has incurred costs investigating conditions, analyzing cleanup alternatives and overseeing ARCO's work at the Site. In 1997, ARCO removed flue dust and associated contaminated soil from the Site. Under the proposed settlement ARCO will also remove contaminated material from another portion of the Site. ARCO and the Forest Service will each bear their respective costs, while retaining the right to recover those costs from persons not parties to the settlement.

DATES: Comments must be received, in writing, on or before September 11, 2003.

ADDRESSES: Written comments on this proposed settlement agreement may be sent to: James E. Alexander, USDA Office of General Counsel, Room 1734 Federal Building, 1220 SW 3rd Avenue, Portland, Oregon 97204-2825, and should refer to the Cashman Mill Site, Skykomish, King County, Washington, A copy of the proposed settlement agreement may be obtained by mail from Mary Grove, USDA Office of General Counsel, Room 1734 Federal Building, 1220 SW 3rd Avenue, Portland, Oregon 97204-2825.

FOR FURTHER INFORMATION CONTACT: James E. Alexander, USDA Office of General Counsel, Room 1734 Federal Building, 1220 SW 3rd Avenue, Portland, Oregon 97204-2825.

Dated: August 6, 2003.
Linda D. Goodman,
Regional Forester, USDA Forest Service, Region 6.

[FR Doc. 03-20480 Filed 8-11-03; 8:45 am]

BILLING CODE 3410-11-M